FEDERAL COMMUNICATIONS COMMISSION

[CG Docket No. 03-123; DA 07-3998]

Notice of Certification of Hawk Relay, LLC as a Provider of Internet Protocol Relay (IP Relay) and Video Relay Service (VRS) Eligible for Compensation From the Interstate Telecommunications Relay Service (TRS) Fund

AGENCY: Federal Communications Commission.

ACTION: Notice.

SUMMARY: In this document, the Commission's Consumer and Governmental Affairs Bureau (Bureau) grants the application of Hawk Relay, LLC (Hawk Relay) for certification as a provider of IP Relay and VRS eligible for compensation from the Interstate TRS Fund (Fund). The Commission concludes that Hawk Relay has demonstrated adequately that its provision of IP Relay and VRS will meet or exceed all operational, technical, and functional TRS standards set forth in the Commission's rules; that it makes available adequate procedures and remedies for ensuring compliance with applicable Commission rules; and that to the extent Hawk Relay's service differs from the mandatory minimum standards, the service does not violate the rules.

DATES: Effective September 21, 2007.

FOR FURTHER INFORMATION CONTACT: Gregory Hlibok, Consumer and Governmental Affairs Bureau, Disability Rights Office at (800) 311-4381 (Voice), (202) 418-0431 (TTY), or e-mail at Gregory.Hlibok@fcc.gov.

SUPPLEMENTARY INFORMATION: This is a summary of the Bureau's document DA 07-3998, released September 21, 2007, addressing Hawk Relay's application for certification as a provider of IP Relay and VRS eligible for compensation from the Fund. See Notice of Certification of Hawk Relay, LLC as a Provider of Internet Protocol Relay (IP Relay) and Video Relay Service (VRS) Eligible for Compensation from the Interstate Telecommunications Relay Service (TRS) Fund, CG Docket No. 03-123, Public Notice, 22 FCC Rcd 17020 (CGB 2007). The full texts of document DA 07-3998 and Hawk Relay's application are available for public inspection and copying during regular business hours at the FCC Reference Information Center, Portals II, 445 12th Street, SW., Room CY-A257, Washington, DC 20554. These documents also may be purchased from the Commission's duplicating contractor at Portals II, 445 12th Street, SW., Room CY-B402, Washington, DC 20554; the contractor's Web site, http://www.bcpiweb.com; or by calling (800) 378-3160. To request materials in accessible formats for people with disabilities (Braille, large print, electronic files, audio format), send an e-mail to fcc504@fcc.gov or call the Consumer and Governmental Affairs Bureau at (202) 418-0530 (voice) or (202) 418-0432 (TTY). Document DA 07-3998 also can be downloaded in Word or Portable Document Format (PDF) at: http://www.fcc.gov/cgb/drotrs.html. In addition, Hawk Relay's application also may be found by searching in the Commission's Electronic Comment Filing System (ECFS) at http://www.fcc.gov/cgb/ecfs (insert 03-123 into the Proceeding block).

Synopsis

On January 3, 2007, Hawk Relay filed an application for certification as a provider of IP Relay and VRS eligible for compensation from the Fund pursuant to the Commission's IP Relay and VRS provider certification rules, adopted in Telecommunications Relay Services and Speech-to-Speech Services for Individuals with Hearing and Speech Disabilities, CG Docket No. 03-123, Report and Order and Order on Reconsideration, 20 FCC Rcd 20577 (2005); published at 70 FR 76208, December 23, 2005. On July 9, 2007, Hawk Relay resubmitted its application. Hawk Relay's revised application of July 9, 2007 is granted.

The Bureau has reviewed Hawk Relay's revised application pursuant to the provider certification rules. The Bureau concludes that Hawk Relay has adequately demonstrated that its provision of IP Relay and VRS services will meet or exceed all operational, technical, and functional TRS standards set forth in 47 CFR 64.604; that it makes available adequate procedures and remedies for ensuring compliance with applicable Commission rules; and that to the extent Hawk Relay's service differs from the mandatory minimum standards, the service does not violate the rules.

Hawk Relay's application is granted subject to compliance with applicable Commission orders, including the declaratory ruling requiring the interoperability of VRS equipment and service. See Telecommunications Relay Services and Speech-to-Speech Services for Individuals with Hearing and Speech Disabilities, CG Docket No. 03-123, Declaratory Ruling and Further Notice of Proposed Rulemaking, 21 FCC Rcd 5442 (2006); published at 71 FR 30818, May 31, 2006 and 71 FR 30848, May 31, 2006. Further, Hawk Relay must file an annual report with the Commission demonstrating that Hawk Relay is in compliance with 47 CFR 64.604. The first such report shall be due one year after September 21, 2007, and subsequent reports shall be due each year thereafter. This certification shall remain in effect for a period of five years from September 21, 2007. Within ninety days prior to the expiration of this certification, Hawk Relay may apply for renewal of its IP Relay and VRS provider certification by filing documentation in accordance with the Commission's rules.

Federal Communications Commission.
Nicole McGinnis,
Deputy Chief, Consumer and Governmental Affairs Bureau.

1

[FR Doc. E8-19546 Filed 8-21-08; 8:45 am]

BILLING CODE 6712-01-P